DEPARTMENT OF TRANSPORTATION

Federal Railroad Administration

[Docket No. FRA-2015-0007-N-9]

Agency Request for Emergency Processing of Collection of Information by the Office of Management and Budget

AGENCY: Federal Railroad Administration (FRA), United States Department of Transportation (USDOT).

ACTION: Notice.

SUMMARY: FRA hereby gives notice that it is submitting the following Information Collection request (ICR) to the Office of Management and Budget (OMB) for emergency processing under the Paperwork Reduction Act of 1995. FRA requests that OMB authorize the collection of information identified below immediately upon publication of this Notice for a period of 180 days.

FOR FURTHER INFORMATION CONTACT: A copy of this individual ICR, with applicable supporting documentation, may be obtained by telephoning FRA's Office of Railroad Safety Clearance Officer: Robert Brogan (tel. (202) 493-6292) or FRA's Office of Administration Clearance Officer: Kimberly Toone (tel. (202) 493-6132) (these numbers are not toll-free); or by contacting Mr. Brogan via facsimile at (202) 493-6216 or Ms. Toone via facsimile at (202) 493-6497, or via email by contacting Mr. Brogan at Robert.Brogan@dot.gov; or by contacting Ms. Toone at Kim.Toone@dot.gov. Comments and questions about the ICR identified below should be directed to OMB's Office of Information and Regulatory Affairs, Attn: FRA OMB Desk Office.

SUPPLEMENTARY INFORMATION: Due to recent derailments involving “high hazard flammable trains” (HHFTs), FRA and PHMSA have conducted several post-accident investigations and to ensure that stakeholders are fully aware of each agency's investigative authority and cooperate with agency personnel conducting such investigations, where time is of the essence in gathering evidence, the agencies are issuing a Safety Advisory (FRA Safety Advisory 2015-02 and Docket NO. PHMSA-2015-0118, Notice No. 15-11) to remind railroads operating HHFTs—defined as a train comprised of 20 or more loaded tank cars of a Class 3 flammable liquid in a continuous block, or a train with 35 or more loaded tank cars of a Class 3 flammable liquid across the entire train—as well as the offerors of Class 3 flammable liquids transported on such trains, of their obligation to provide PHMSA and FRA, as expeditiously as possible, with information agency personnel need to conduct investigations immediately following an accident or incident.

Title: Hazardous Materials: Information Requirements Related to the Transportation of Trains Carrying Specified Volumes of Flammable Liquids.

Reporting Burden
FRA Safety Advisory 2015-02; Docket No. PHMSA-2015-0118 | Respondent universe | Total annual responses | Average time per response (hours) | Total annual burden hours
(1) Records of High Hazard Flammable Trains Containing Information Specified in This Safety Advisory Provided Upon Request to FRA/PHMSA Personnel After Train Accident | 70 Railroads | 50 Records | 2 | 100

Form Number(s): N/A.

Respondent Universe: 70 Railroads.

Frequency of Submission: One-time; on occasion.

Total Estimated Responses: 50.

Total Estimated Annual Burden: 100 hours.

Status: Emergency Review.

Pursuant to 44 U.S.C. 3507(a) and 5 CFR 320.5(b), 1320.8(b)(3)(vi), FRA informs all interested parties that it may not conduct or sponsor, and a respondent is not required to respond to, a collection of information unless it displays a currently valid OMB control number.

Authority: 44 U.S.C. 3501-3520.

Erin McCartney,
Budget Director.

[FR Doc. 2015-09703 Filed 4-24-15; 8:45 am]

BILLING CODE 4910-06-P